DEPARTMENT OF COMMERCE

International Trade Administration

[A-580-919]

Certain Epoxy Resins From the Republic of Korea: Amended Preliminary Determination of Less-Than-Fair-Value Investigation

AGENCY: Enforcement and Compliance, International Trade Administration, Department of Commerce.

SUMMARY: The U.S. Department of Commerce (Commerce) is amending its preliminary affirmative determination in the less-than-fair-value (LTFV) investigation of certain epoxy resins (epoxy resins) from the Republic of Korea (Korea) to correct for a significant ministerial error. The period of investigation (POI) is April 1, 2023, through March 31, 2024.

DATES: Applicable December 13, 2024.

FOR FURTHER INFORMATION CONTACT: Joy Zhang or Laura Delgado, AD/CVD Operations, Office III, Enforcement and Compliance, International Trade Administration, U.S. Department of Commerce, 1401 Constitution Avenue NW, Washington, DC 20230; telephone: (202) 482-1168 or (202) 482-1468, respectively.

SUPPLEMENTARY INFORMATION:

Background

On November 13, 2024, Commerce published in the Federal Register its preliminary affirmative determination in the LTFV investigation of epoxy resins from Korea.¹ On November 18, 2024, a mandatory respondent, Kumho P&B Chemicals (Kumho P&B), timely alleged that Commerce made a significant ministerial error in calculating its estimated weighted-average dumping margin.²

¹ See Certain Epoxy Resins from the Republic of Korea: Preliminary Affirmative Determination of Sales at Less Than Fair Value, Preliminary Negative Critical Circumstances Determination, Postponement of Final Determination, and Extension of Provisional Measures, 89 FR 89605 (November 13, 2024) (Preliminary Determination), and accompanying Preliminary Decision Memorandum (PDM).

² See Kumho P&B's Letter, “Kumho P&B's Ministerial Error Allegation,” dated November 18, 2024.

Scope of the Investigation

The products covered by this investigation are epoxy resins from Korea. For a complete description of the scope of this investigation, see the Appendix.

Legal Framework

A ministerial error is defined as including “errors in addition, subtraction, or other arithmetic function, clerical error resulting from inaccurate copying, duplication, or the like, and any other similar type of unintentional error which {Commerce} considers ministerial.” ³ A ministerial error is considered to be “significant” if its correction, either singly or in combination with other errors, would result in: (1) a change of at least five absolute percentage points in, but not less than 25 percent of, the weighted-average dumping margin calculated in the preliminary determination; or (2) a difference between a weighted-average dumping margin of zero (or de minimis) and a weighted-average dumping margin of greater than de minimis or vice versa.⁴ Pursuant to 19 CFR 351.224(e), Commerce “will analyze any comments received and, if appropriate, correct any significant ministerial error by amending the preliminary determination.”

³ See section 735(e) of the Tariff Act of 1930, as amended (the Act); see also 19 CFR 351.224(f).

⁴ See 19 CFR 351.224(g).

Analysis of Significant Ministerial Error

In the Preliminary Determination, Commerce made a significant ministerial error within the meaning of section 735(e) of the Act and 19 CFR 351.224(f) and (g)(1) in calculating the estimated weighted-average dumping margin for Kumho P&B. Accordingly, pursuant to 19 CFR 351.224(e), Commerce is amending its Preliminary Determination to correct for this significant ministerial error by revising the weighted-average dumping margins for Kumho P&B and all other producers and/or exporters.⁵ For a detailed discussion of the alleged ministerial error, as well as Commerce's analysis, see the Ministerial Error Memorandum.⁶

⁵ See Preliminary Determination, 89 FR at 89605 (“{The all-others rate} shall be an amount equal to the weighted average of the estimated weighted-average dumping margins established for exporters and producers individually investigated”).

⁶ See Memorandum, “Less-Than-Fair-Value Investigation of Epoxy Resins from the Republic of Korea: Ministerial Error Allegations Regarding the Preliminary Determination,” dated concurrently with this notice (Ministerial Error Memorandum) at 2-3.

Amended Preliminary Determination

As a result of correcting the significant ministerial error, Commerce determines the following estimated weighted-average dumping margins exist:

Exporter/producer | Estimated weighted-average dumping margin (percent) ⁷ | Cash deposit rate (adjusted for subsidy offset(s)) (percent)
Kukdo Chemical Co., Ltd./Kukdo Finechem | 24.65 | Not Applicable.
Kumho P&B Chemicals, Inc.⁸ | 7.19 | Not Applicable.
All Others ⁹ | 18.39 | Not Applicable.

Disclosure

⁷ Commerce will normally adjust cash deposits for estimated antidumping duties by the amount of export subsidies countervailed in a companion countervailing duty (CVD) proceeding. However, because Commerce made a preliminary negative finding in the companion CVD proceeding, no such adjustment is warranted. See Certain Epoxy Resins from the Republic of Korea: Preliminary Negative Countervailing Duty Determination, Preliminary Negative Critical Circumstances Determination and Alignment of Final Determination with Final Antidumping Duty Determination, 89 FR 74912, (September 13, 2024), and accompanying PDM at 6-7.

⁸ See Memorandum, “Amended Preliminary Determination Analysis Memorandum for Kumho P&B,” dated concurrently with this notice.

⁹ See Memorandum, “Amended All-Others Rate Calculation,” dated concurrently with this notice.

We intend to disclose the calculations performed for this amended preliminary determination to parties within five days after public announcement or, if there is no public announcement, within five days of the date of publication of this notice, in accordance with 19 CFR 351.224(b).

Amended Cash Deposits and Suspension of Liquidation

The collection of cash deposits and suspension of liquidation will be revised according to the rates calculated in this amended preliminary determination, in accordance with section 733(d) of the Act. Because the amended rate for Kumho P&B and all other producers and/or exporters result in decreased cash deposit rates, they will be effective retroactively to November 13, 2024, the date of publication of the Preliminary Determination. We will also instruct U.S. Customs and Border Protection to issue instructions for requesting a refund of the difference between the amount of cash deposits paid as a result of the application of the Preliminary Determination rates and the amount due as a result of the amended preliminary determination rates.

U.S. International Trade Commission (ITC) Notification

In accordance with section 733(f) of the Act, Commerce will notify the ITC of our amended preliminary determination.

Notification to Interested Parties

This amended preliminary determination is issued and published in accordance with sections 733(d) and 777(i) of the Act, and 19 CFR 351.224(e).

Dated: December 9, 2024.
Abdelali Elouaradia,
Deputy Assistant Secretary for Enforcement and Compliance.

Appendix—Scope of the Investigation

The merchandise subject to this investigation are fully or partially uncured epoxy resins, also known as epoxide resins, polyepoxides, oxirane resins, ethoxyline resins, diglycidyl ether of bisphenol, (chloromethyl) oxirane, or aromatic diglycidyl, which are polymers or prepolymers containing epoxy groups (i.e., three-membered ring structures comprised of two carbon atoms and one oxygen atom). Epoxy resins range in physical form from low viscosity liquids to solids. All epoxy resins are covered by the scope of this investigation irrespective of physical form, viscosity, grade, purity, molecular weight, or molecular structure, and packaging.

Epoxy resins may contain modifiers or additives, such as hardeners, curatives, colorants, pigments, diluents, solvents, thickeners, fillers, plasticizers, softeners, flame retardants, toughening agents, catalysts, Bisphenol F, and ultraviolet light inhibitors, so long as the modifier or additive has not chemically reacted so as to cure the epoxy resin or convert it into a different product no longer containing epoxy groups. Such epoxy resins with modifiers or additives are included in the scope where the epoxy resin component comprises no less than 30 percent of the total weight of the product. The scope also includes blends of epoxy resins with different types of epoxy resins, with or without the inclusion of modifiers and additives, so long as the combined epoxy resin component comprises at least 30 percent of the total weight of the blend.

Epoxy resins that enter as part of a system or kit with separately packaged co-reactants, such as hardeners or curing agents, are within the scope. The scope does not include any separately packaged co-reactants that would not fall within the scope if entered on their own.

The scope includes merchandise matching the above description that has been processed in a third country, including by commingling, diluting, introducing, or removing modifiers or additives, or performing any other processing that would not otherwise remove the merchandise from the scope of the investigation if performed in the subject country.

The scope also includes epoxy resin that is commingled or blended with epoxy resin from sources not subject to this investigation. Only the subject component of such commingled products is covered by the scope of this investigation.

Excluded from the scope are phenoxy resins, which are polymers with a weight greater than 11,000 Daltons, a Melt Flow Index (MFI) at 200 °C (392 °F) no less than 4 grams and no greater than 70 grams per 10 min, Glass-Transition Temperatures (Tg) no less than 80 °C (176 °F) and no greater than 100 °C (212 °F), and which contain no epoxy groups other than at the terminal ends of the molecule.

Excluded from the scope are certain paint and coating products, which are blends, mixtures, or other formulations of epoxy resin, curing agent, and pigment, in any form, packaged in one or more containers, wherein (1) the pigment represents a minimum of 10 percent of the total weight of the product, (2) the epoxy resin represents a maximum of 80 percent of the total weight of the product, and (3) the curing agent represents 5 to 40 percent of the total weight of the product.

Excluded from the scope are preimpregnated fabrics or fibers, often referred to as “pre-pregs,” which are composite materials consisting of fabrics or fibers (typically carbon or glass) impregnated with epoxy resin.

This merchandise is currently classifiable under Harmonized Tariff Schedule of the United States (HTSUS) subheading 3907.30.0000. Subject merchandise may also be entered under subheadings 3907.29.0000, 3824.99.9397, 3214.10.0020, 2910.90.9100, 2910.90.9000, 2910.90.2000, and 1518.00.4000. The HTSUS subheadings are provided for convenience and customs purposes only; the written description of the scope is dispositive.

[FR Doc. 2024-29430 Filed 12-12-24; 8:45 am]

BILLING CODE 3510-DS-P